DEPARTMENT OF TRANSPORTATION

Federal Aviation Administration

14 CFR Parts 13, 91 Subpart K (Part 91K), 119, 121, 125, 133, 135, 137, 141, 142, 145, and 147

[Docket No. FAA 2025-0928]

Changes to Application for Certification Process

AGENCY: Federal Aviation Administration (FAA), Department of Transportation (DOT).

ACTION: Procedural update; notification of availability.

SUMMARY: This action announces the implementation of an update to the process for an applicant to withdraw, or for the FAA to deny, an application for certification to better address the expectations of applicants and the FAA with respect to certification timelines. The change supports the FAA's mission and the Certification Services Oversight Process (CSOP) by enhancing engagement with air carrier, air operator, or air agency certification applicants and further streamlining the certification process. This update is intended to reduce wait times and better utilize FAA resources for processing complete applications from prepared applicants, thus increasing efficiency in accomplishing the certification process.

DATES: [DATE OF PUBLICATION IN THE FEDERAL REGISTER].

FOR FURTHER INFORMATION CONTACT: Mark Trudeau, Section Manager, Office of Safety Standards (AFS-330), Flight Standards Service, Federal Aviation Administration, 800 Independence Avenue SW, Washington, DC 20591; (202) 267-1675.

SUPPLEMENTARY INFORMATION: As set forth in Title 49 of the United States Code (49 U.S.C.), the Administrator of the Federal Aviation Administration (Administrator) may issue air carrier, air operating, and air agency certificates. An application for a certificate must be under oath when the Administrator requires; and be in the form, contain information, and be filed and served in the way the Administrator prescribes.¹ Only when the FAA receives a complete application in a manner prescribed by the Administrator shall the entity be considered an applicant.² The FAA's certification offices have, in recent years, experienced significant backlog and resource constraints related to the timing and delay in responsiveness by applicants for various types of FAA certification. The notice described in the paragraph that follows provides updated guidance to inspectors to ensure all certifications continue proceeding in a timely fashion.

¹ 49 U.S.C. 44702.

² 14 CFR 91.1014, 119.35, 125.21, 133.15, 137.15, 141.13, 142.11, 145.51, 147.5

On May 23, 2025, the FAA published updated policy on processing air carrier, air operating, and air agency applications for certification. As provided in the revised policy, the FAA will no longer accept applications that are incomplete or not submitted in a form or manner acceptable to the Administrator. In addition, an applicant may withdraw its application at any point during the certification process and the FAA may terminate a certification in which the applicant does not proceed with certification requirements. The updated policy is found in Notice 8900.735: Disposition of Incomplete or Insufficient Air Operator and Air Agency Certification Applications.

Issued in Washington, DC, on May 23, 2025.
Hugh J. Thomas,
Acting Deputy Executive Director, Flight Standards Service.

[FR Doc. 2025-10001 Filed 6-2-25; 8:45 am]

BILLING CODE 4910-13-P